DEPARTMENT OF AGRICULTURE

Natural Resources Conservation Service

TE 36 Thin-Mat Floating Marsh Enhancement Demonstration Project Terrebonne Parish, Louisiana

AGENCY: Natural Resources Conservation Service, Agriculture.

ACTION: Notice of Finding of No Significant Impact.

SUMMARY: Pursuant to Section 102 (2)(C) of the National Environmental Policy Act of 1969; the Council on Environmental Quality Guidelines (40 CFR Part 1500); and the Natural Resources Conservation Service Guidelines (7 CFR Part 650); the Natural Resources Conservation Service, U.S. Department of Agriculture, gives notice that an environmental impact statement is not being prepared for the Thin-Mat Floating Marsh Demonstration Project, Terrebonne Parish, Louisiana.

FOR FURTHER INFORMATION CONTACT: Donald W. Gohmert, State Conservationist, Natural Resources Conservation Service, 3737 Government Street, Alexandria, Louisiana 71302; telephone (318) 473-7751.

SUPPLEMENTARY INFORMATION: The environmental assessment of the federally assisted action indicates that the project will not cause significant local, regional, or national impacts on the environment. As a result of these findings, Donald W. Gohmert, State Conservationist, has determined that preparation and review of an environmental impact statement is not needed for this project.

The demonstration project will test the potential of restoring thin-mat floating marsh to thick-mat maidencane (Panicum hemitomon) floating marsh using three methods and all possible combinations thereof: (1) Transplanting maidencane into the thin-mat marsh, (2) inducing growth through fertilization, and (3) inducing growth through reduction of mammalian grazing. The project directly impacts less than 4 acres of fresh marsh within the northwestern part of the Penchant Basin in Terrebonne Parish. The potential benefits of developing management tools to restore a large area of existing thin-mat marsh exceed the risk of negatively impacting less than 4 acres.

The Notice of Finding of No Significant Impact (FONSI) has been forwarded to the Environmental Protection Agency and to various federal, state, and local agencies and interested parties. A limited number of copies of the FONSI are available to fill single copy requests at the above address. Basic data collected during the environmental assessment are on file and may be reviewed by contacting Donald W. Gohmert.

No administrative action on implementation of the proposal will be taken until 30 days after the date of this publication in the Federal Register.

Donald W. Gohmert,
State Conservationist.

[FR Doc. 00-5269 Filed 3-3-00; 8:45 am]

BILLING CODE 3410-16-M